DEPARTMENT OF TRANSPORTATION

Federal Aviation Administration

14 CFR Part 47

Court of Competent Jurisdiction

AGENCY: Federal Aviation Administration (FAA), DOT.

ACTION: Interpretive rule.

SUMMARY: The Federal Aviation Administration (FAA) interprets the phase “court of competent jurisdiction” as used in Title 14, Code of Federal Regulations § 47.37 as meaning a court of the country where the aircraft was last registered.

EFFECTIVE DATE: August 29, 2000.

FOR FURTHER INFORMATION CONTACT: Joseph R. Standell, Federal Aviation Administration (AMC-7), Post Office Box 25082, Oklahoma City, OK 73125. Telephone (405) 954-3296.

SUPPLEMENTARY INFORMATION: Section 37.37(b)(2) of the Code of Federal Regulations (14 CFR Part 47) requires an applicant for United States registration of an aircraft to provide evidence satisfactory to the Administrator that foreign registration of the aircraft has terminated. Satisfactory evidence included “a final judgment or decree of a court of competent jurisdiction that determines, under the law of the country concerned, that the registration has in fact become invalid.” (14 CFR 47.37(b)(2)) FAA interprets the phrase “court of competent jurisdiction” to mean a court of the country where the aircraft was last registered.

Issued in Oklahoma City, OK on August 22, 2000.
Joseph R. Standell,
Aeronautical Center Counsel.

[FR Doc. 00-22037 Filed 8-28-00; 8:45 am]

BILLING CODE 4910-13-M